DEPARTMENT OF COMMERCE

National Oceanic and Atmospheric Administration

[I.D. 082304A]

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 12-17, 2004. The Council meeting will begin on Tuesday, September 14, at 8 a.m., reconvening each day through Friday. All meetings are open to the public, except a closed session will be held from 8 a.m. to 9 a.m. on Tuesday, September 14 to address litigation and personnel matters. The Council will meet as late as necessary each day to complete its scheduled business.

ADDRESSES: The meetings will be held at the Hyatt Regency Islandia, 1441 Quivira Road, San Diego, CA 92109; telephone: 619-224-1234.

Council address: Pacific Fishery Management Council, 7700 NE Ambassador Place, Suite 200, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks, Introductions

2. Roll Call

3. Executive Director's Report

4. Approve Agenda

B. Administrative Matters

1. Approval of Council Meeting Minutes

2. NMFS Revision of National Standard 1

3. Update of Council Operating Procedures (COPs) and Statement of Organization, Practices, and Procedures (SOPPs) Documents

4. Council Communication Plan

5. Legislative Matters

6. Fiscal Matters

7. Interim Appointments to Advisory Bodies

8. Workload Priorities and Draft November 2004 Council Meeting Agenda

C. Groundfish Management

1. California Recreational Fishery Survey (CRFS) Program Review

2. Initial Consideration of Status of Fisheries and Inseason Adjustments

3. Consideration of Limited Refinements to the 2005/06 Fishery Management Specifications

4. Red Light/Green Light Threshold for Optimum Yield Adjustments

5. NMFS Report

6. Groundfish Essential Fish Habitat Environmental Impact Statement (EIS) - Preliminary Alternatives

7. Off-Year Science Improvements Report

8. Terms of Reference for Groundfish Rebuilding Plan Review

9. Final Consideration of 2004 Inseason Adjustments

10. Expansion of Vessel Monitoring System

11. Trawl Individual Quota EIS

D. Salmon Management

1. Salmon Fishery Update

2. Salmon Methodology Review

3. Fishery Management Plan (FMP) Amendment Update

E. Marine Protected Areas

1. Guidelines for Review of Marine Reserves Issues

2. Update on Miscellaneous Marine Protected Areas Activities

3. Krill Harvest Ban Proposal

F. Pacific Halibut Management

1. Pacific Halibut Fishery Update

2. Proposed Changes to the Catch Sharing Plan and Annual Regulations

3. Review of Pacific Halibut Bycatch Estimates for Use by the International Pacific Halibut Commission

G. Habitat

Current Habitat Issues

H. Highly Migratory Species (HMS) Management

1. NMFS Report

2. FMP Amendment for Limited Entry in the High Seas Pelagic Longline Fishery

3. Stock Assessments for Albacore and Blue Fin Tuna

I. Coastal Pelagic Species Management

1. NMFS Report

2. STAR Panel Report

3. FMP Amendment—Sardine Allocation

SCHEDULE OF ANCILLARY MEETINGS
SUNDAY, SEPTEMBER 12, 2004 |
Groundfish Management Team | 1 p.m.
MONDAY, SEPTEMBER 13, 2004 |
Council Secretariat | 8 a.m.
Groundfish Advisory Subpanel | 8 a.m.
Groundfish Management Team | 8 a.m.
Scientific and Statistical Committee | 8 a.m.
Essential Fish Habitat EIS - Joint Session | 9:30 a.m.
National Standard 1 Briefing - Joint Session | 11 a.m.
Legislative Committee | 11 a.m.
Budget Committee | 1 p.m.
Enforcement Consultants | 4 p.m.
TUESDAY, SEPTEMBER 14, 2004 |
Council Secretariat | 7 a.m.
California State Delegation | 7 a.m.
Oregon State Delegation | 7 a.m.
Washington State Delegation | 7 a.m.
Groundfish Advisory Subpanel | 8 a.m.
Groundfish Management Team | 8 a.m.
Scientific and Statistical Committee | 8 a.m.
Habitat Committee | 10:30 a.m.
Enforcement Consultants | As necessary
WEDNESDAY, SEPTEMBER 15, 2004 |
Council Secretariat | 7 a.m.
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Enforcement Consultants | As necessary
THURSDAY, SEPTEMBER 16, 2004 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
FRIDAY, SEPTEMBER 17, 2004 |
Council Secretariat | 7 a.m.
California State Delegation | 7 a.m.
Oregon State Delegation | 7 a.m.
Washington State Delegation | 7 a.m.
Groundfish Advisory Subpanel | As necessary
Groundfish Management Team | 8 a.m.
Enforcement Consultants | As necessary

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: August 24, 2004.
Alan D. Risenhoover,
Acting Director, Office of Sustainable Fisheries, National Marine Fisheries Service.

[FR Doc. E4-1951 Filed 8-26-04; 8:45 am]

BILLING CODE 3510-22-S